FEDERAL COMMUNICATIONS COMMISSION

[Report No. 2733]

Petitions for Reconsideration of Action in Rulemaking Proceeding

October 25, 2005.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by November 17, 2005. See Section 1.4(b)(1) of the Commission's rules (47 CFR 1.4(b)(1)). Replies to an opposition must be filed within 10 days after the time for filing oppositions have expired.

Subject: In the Matter of Provision of Directory Listing Information under the Communications Act of 1934, as Amended (CC Docket No. 99-273).

Number of Petitions Filed: 1.

Marlene H. Dortch,
Secretary.

[FR Doc. 05-21729 Filed 11-1-05; 8:45 am]

BILLING CODE 6712-01-P